DEPARTMENT OF DEFENSE

Office of the Secretary

[Docket ID: DoD-2021-OS-0043]

Submission for OMB Review; Comment Request

AGENCY: Office of the Under Secretary of Defense for Personnel and Readiness, Department of Defense (DoD).

ACTION: Information collection notice.

SUMMARY: Consistent with the Paperwork Reduction Act of 1995 and its implementing regulations, this document provides notice DoD is submitting an Information Collection Request to the Office of Management and Budget (OMB) to collect information on Service members, DoD Civilians, and DoD contractors in evaluating 20 high and low risk installations as directed in Immediate Action 2 in the Secretary of Defense Memorandum, “Immediate Actions to Counter Sexual Assault and Harassment and the Establishment of a 90-Day Independent Review Commission on Sexual Assault in the Military,” February 26, 2021, DoD requests emergency processing and OMB authorization to collect the information after publication of this Notice for a period of six months.

DATES: Comments must be received by July 7, 2021.

ADDRESSES: The Department has requested emergency processing from OMB for this information collection request by 30 days after publication of this notice. Interested parties can access the supporting materials and collection instrument as well as submit comments and recommendations to OMB at www.reginfo.gov/public/do/PRAMain. Find this particular information collection by selecting “Currently under 30-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: These information collections support an emergent, high-visibility Secretary of Defense requirement directed in February 2021 to conduct evaluations of 20 DoD installations where the military community is at increased or decreased risk for destructive behaviors as evidenced by measures of unhealthy command climate. Site visits will take place June-August 2021, report development in August 2021, Military Department coordination in September 2021 and delivery of the report to the Secretary by Oct 2021. Given the aggressive timelines the purpose of the initial high risk installation evaluations is to pilot an evaluation process and metrics in order to develop an enduring evaluation method to support future evaluations (expected to be conducted on biennial basis). DoD Office of Force Resiliency (OFR) will identify 20 DoD installations to take part in the assessment. At each location, a handful of DoD personnel who either have direct responsibility for prevention activities or their superiors will participate. There will be three data sources: (1) Responding to a “request for information”; (2) participating in discussions during a three day site visit; and (3) completing a survey.

Title; Associated Form; and OMB Number: High Risk Installation Evaluations; OMB Control Number 0704-HRIE.

Type of Request: New.

Number of Respondents: 4,400.

Responses per Respondent: 1.

Annual Responses: 4,400.

Average Burden per Response: 70 minutes.

Annual Burden Hours: 5,134 hours.

Affected Public: Individuals or households.

Frequency: Biennial.

Respondent's Obligation: Voluntary.

Request for Comments: Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: June 2, 2021.
Aaron T. Siegel,
Alternate OSD Federal Register Liaison Officer, Department of Defense.

[FR Doc. 2021-11890 Filed 6-4-21; 8:45 am]

BILLING CODE 5001-06-P